DEPARTMENT OF COMMERCE

International Trade Administration

[A-549-853]

Large Top Mount Combination Refrigerator-Freezers From Thailand: Initiation of Less-Than-Fair-Value Investigation

AGENCY: Enforcement and Compliance, International Trade Administration, Department of Commerce.

DATES: Applicable July 9, 2024.

FOR FURTHER INFORMATION CONTACT: Lilit Astvatsatrian, AD/CVD Operations, Office IX, Enforcement and Compliance, International Trade Administration, U.S. Department of Commerce, 1401 Constitution Avenue NW, Washington, DC 20230; telephone: (202) 482-6412.

SUPPLEMENTARY INFORMATION:

The Petition

On May 30, 2024, the U.S. Department of Commerce (Commerce) received an antidumping duty (AD) petition concerning imports of large top mount combination refrigerator-freezers (refrigerators) from Thailand, filed in proper form on behalf of Electrolux Consumer Products, Inc. (the petitioner), a domestic producer of refrigerators.¹

¹ See Petitioner's Letter, “Petition for the Imposition of Antidumping Duties,” dated May 30, 2024 (Petition).

Between June 4 and 21, 2024, Commerce requested information pertaining to certain aspects of the Petition in supplemental questionnaires, as well as via a phone call.² The petitioner responded to Commerce's requests for additional information between June 6 and 24, 2024.³

² See Commerce's Letters, “Supplemental Questions,” dated June 3, 2024 (Supplemental Questionnaire); and “Supplemental Questions,” dated June 21, 2024 (Second Supplemental Questionnaire); see also Memorandum, “Phone Call with Counsel to the Petitioner,” dated June 10, 2024.

³ See Petitioner's Letters, “Response to Supplemental Questions,” dated June 6, 2024 (Supplement); “Response to Industry Support Supplemental Questions,” dated June 11, 2024 (Industry Support Response); and “Response to Supplemental Scope Questions,” dated June 24, 2024 (Scope Supplement).

On June 14, 2024, after considering comments regarding industry support, Commerce extended the initiation deadline by 20 days to poll the domestic industry, in accordance with section 732(c)(4)(D) of the Tariff Act of 1930, as amended (the Act), because “the Petition has not established that the domestic producers or workers accounting for more than 50 percent of total production support the Petition.” ⁴

⁴ See Notice of Extension of the Deadline for Determining the Adequacy of the Antidumping Duty Petition: Large Top Mount Combination Refrigerator-Freezers from Thailand, 89 FR 54024 (June 21, 2024) (Initiation Extension Notice).

In accordance with section 732(b) of the Act, the petitioner alleges that imports of refrigerators from Thailand, are being, or are likely to be, sold in the United States at less than fair value (LTFV) within the meaning of section 731 of the Act, and that imports of such products are materially injuring, or threatening material injury to, the refrigerators industry in the United States. Consistent with section 732(b)(1) of the Act, the Petition was accompanied by information reasonably available to the petitioner supporting its allegations.

Commerce finds that the petitioner filed the Petition on behalf of the domestic industry because the petitioner is an interested party, as defined in section 771(9)(C) of the Act. Commerce also finds that the petitioner demonstrated sufficient industry support for the initiation of the requested LTFV investigation.⁵

⁵ See section on “Determination of Industry Support for the Petition,” infra.

Period of Investigation

Because the Petition was filed on May 30, 2024, pursuant to 19 CFR 351.204(b)(1), the period of investigation (POI) is April 1, 2023, through March 31, 2024.

Scope of the Investigation

The products covered by this investigation are refrigerators from Thailand. For a full description of the scope of this investigation, see the appendix to this notice.

Comments on the Scope of the Investigation

On June 4 and 21, 2024, Commerce requested information and clarification from the petitioner regarding the proposed scope to ensure that the scope language in the Petition is an accurate reflection of the products for which the domestic industry is seeking relief.⁶ On June 6 and 24, 2024, the petitioner provided clarifications and revised the scope.⁷ The description of merchandise covered by this investigation, as described in the appendix to this notice, reflects these clarifications.

⁶ See Supplemental Questionnaire at 3; see also Second Supplemental Questionnaire at 1.

⁷ See Supplement at 1-7; see also Scope Supplement at 1-2 and Attachment.

As discussed in the Preamble to Commerce's regulations, we are setting aside a period for interested parties to raise issues regarding product coverage (i.e., scope).⁸ Commerce will consider all scope comments received from interested parties and, if necessary, will consult with interested parties prior to the issuance of the preliminary determination. If scope comments include factual information,⁹ all such factual information should be limited to public information. To facilitate preparation of its questionnaires, Commerce requests that scope comments be submitted by 5:00 p.m. Eastern Time (ET) on July 29, 2024, which is 20 calendar days from the signature date of this notice.¹⁰ Any rebuttal comments, which may include factual information, and should also be limited to public information, must be filed by 5:00 p.m. ET on August 8, 2024, which is 10 calendar days from the initial comment deadline.

⁸ See Antidumping Duties; Countervailing Duties, Final Rule, 62 FR 27296, 27323 (May 19, 1997) (Preamble); see also 19 CFR 351.312.

⁹ See 19 CFR 351.102(b)(21) (defining “factual information”).

¹⁰ See 19 CFR 351.303(b)(1).

Commerce requests that any factual information that parties consider relevant to the scope of this investigation be submitted during that period. However, if a party subsequently finds that additional factual information pertaining to the scope of the investigation may be relevant, the party must contact Commerce and request permission to submit the additional information.

Filing Requirements

All submissions to Commerce must be filed electronically via Enforcement and Compliance's Antidumping Duty and Countervailing Duty Centralized Electronic Service System (ACCESS), unless an exception applies.¹¹ An electronically filed document must be received successfully in its entirety by the time and date it is due.

¹¹ See Antidumping and Countervailing Duty Proceedings: Electronic Filing Procedures; Administrative Protective Order Procedures, 76 FR 39263 (July 6, 2011); see also Enforcement and Compliance: Change of Electronic Filing System Name, 79 FR 69046 (November 20, 2014) for details of Commerce's electronic filing requirements, effective August 5, 2011. Information on using ACCESS can be found at https://access.trade.gov/help.aspx and a handbook can be found at https://access.trade.gov/help/Handbook_on_Electronic_Filing_Procedures.pdf.

Comments on Product Characteristics

Commerce is providing interested parties an opportunity to comment on the appropriate physical characteristics of refrigerators to be reported in response to Commerce's AD questionnaires. This information will be used to identify the key physical characteristics of the subject merchandise in order to report the relevant cost of production (COP) accurately, as well as to develop appropriate product comparison criteria.

Interested parties may provide any information or comments that they feel are relevant to the development of an accurate list of physical characteristics. Specifically, they may provide comments as to which characteristics are appropriate to use as: (1) general product characteristics; and (2) product comparison criteria. We note that it is not always appropriate to use all product characteristics as product comparison criteria. We base product comparison criteria on meaningful commercial differences among products. In other words, although there may be some physical product characteristics utilized by manufacturers to describe refrigerators, it may be that only a select few product characteristics take into account commercially meaningful physical characteristics. In addition, interested parties may comment on the order in which the physical characteristics should be used in matching products. Generally, Commerce attempts to list the most important physical characteristics first and the least important characteristics last.

In order to consider the suggestions of interested parties in developing and issuing the AD questionnaires, all product characteristics comments must be filed by 5:00 p.m. ET on July 29, 2024, which is 20 calendar days from the signature date of this notice.¹² Any rebuttal comments must be filed by 5:00 p.m. ET on August 8, 2024, which is 10 calendar days from the initial comment deadline.

¹² See 19 CFR 351.303(b)(1).

All comments and submissions to Commerce must be filed electronically using ACCESS, as explained above, on the record of the LTFV investigation.

Determination of Industry Support for the Petition

Section 732(b)(1) of the Act requires that a petition be filed on behalf of the domestic industry. Section 732(c)(4)(A) of the Act provides that a petition meets this requirement if the domestic producers or workers who support the petition account for: (i) at least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, Commerce shall: (i) poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The U.S. International Trade Commission (ITC), which is responsible for determining whether “the domestic industry” has been injured, must also determine what constitutes a domestic like product in order to define the industry. While both Commerce and the ITC must apply the same statutory definition regarding the domestic like product,¹³ they do so for different purposes and pursuant to a separate and distinct authority. In addition, Commerce's determination is subject to limitations of time and information. Although this may result in different definitions of the like product, such differences do not render the decision of either agency contrary to law.¹⁴

¹³ See section 771(10) of the Act.

¹⁴ See USEC, Inc. v. United States, 132 F. Supp. 2d 1, 8 (CIT 2001) (citing Algoma Steel Corp., Ltd. v. United States, 688 F. Supp. 639, 644 (CIT 1988), aff'd Algoma Steel Corp., Ltd. v. United States, 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioner does not offer a definition of the domestic like product distinct from the scope of the investigation.¹⁵ Based on our analysis of the information submitted on the record, we have determined that refrigerators, as defined in the scope, constitute a single domestic like product, and we have analyzed industry support in terms of that domestic like product.¹⁶

¹⁵ See Petition at Volume I (pages 4-5, 9, 24-36, and Exhibits I-1, I-13 through I-15, I-17, I-19, and I-23 through I-27); see also Supplement at 10-12 and Exhibit SUPP-10 through Exhibit SUPP-12.

¹⁶ For a discussion of the domestic like product analysis as applied to this case and information regarding industry support, see Checklist, “Large Top Mount Combination Refrigerator-Freezers from Thailand,” dated concurrently with, and hereby adopted by, this notice (Thailand AD Initiation Checklist), at Attachment II, Analysis of Industry Support for the Antidumping Duty Petition Covering Large Top Mount Combination Refrigerator-Freezers from Thailand (Attachment II). The checklist is on file electronically via ACCESS.

On June 6 and 12, 2024, we received comments on industry support from Haier U.S. Appliance Solutions Inc., d/b/a GE Appliances (GEA).¹⁷ On June 14, 2024, the petitioner responded to GEA's comments.¹⁸ Based on the information provided in the Petition and the industry support comments, the supporters of the Petition did not account for more than 50 percent of total production of the domestic like product in 2023. Therefore, on June 14, 2024, Commerce extended the initiation deadline by 20 days to poll the domestic industry in accordance with section 732(c)(4)(D) of the Act.¹⁹

¹⁷ See GEA's Letters, “Comment on Industry Support,” dated June 6, 2024; and “Supplemental Comment on Industry Support,” dated June 12, 2024.

¹⁸ See Petitioner's Letter, “Rebuttal Comments on Industry Support,” dated June 14, 2024.

¹⁹ See Initiation Extension Notice; see also Attachment II of the Thailand AD Initiation Checklist.

On June 17, 2024, Commerce issued polling questionnaires to all known producers of refrigerators identified in the Petition.²⁰ We requested that each company complete the polling questionnaire and certify its response by the due date specified in the cover letter to the questionnaire.²¹ We received timely responses to these questionnaires from domestic producers on June 18 and 21, 2024.²² We received timely comments on the questionnaire responses from the petitioner and Toshiba Consumer Products (Thailand) Co. Ltd., a Thai manufacturer, producer, or exporter of refrigerators, and Midea America Corp., a U.S. importer of refrigerators, (collectively, Toshiba and Midea) on June 26, 2024.²³ Toshiba and Midea, as well as the petitioner, provided timely rebuttal comments on June 28, 2024.²⁴

²⁰ See Commerce's Letters, “Polling Questionnaire,” dated June 17, 2024 (Polling Questionnaire); see also Memorandum, “Emails to Counsel to Domestic Producers,” dated June 17, 2024.

²¹ See Polling Questionnaire.

²² See Petitioner's Letter, “Response to Industry Support Questionnaire,” dated June 18, 2024; see also GEA's Letter, “Response to Polling Questionnaire,” dated June 21, 2024.

²³ See Petitioner's Letter, “Comments on Responses to Polling Questionnaire,” dated June 26, 2024; see also Toshiba and Midea's Letter, “Toshiba Consumer Products (Thailand) Co. Ltd's and Midea America Corp.'s Comments Regarding the Polling Questionnaire and Industry Support for the Petition,” dated June 26, 2024.

²⁴ See Petitioner's Letter, “Rebuttal to the Comments on Responses to Polling Questionnaire,” dated June 28, 2024; see also Toshiba and Midea's Letter, “Toshiba Consumer Products (Thailand) Co. Ltd's and Midea America Corp.'s Rebuttal Comments Regarding the Polling Questionnaire and Industry Support for the Petition,” dated June 28, 2024.

Section 732(c)(4)(B) of the Act states that: (i) Commerce “shall disregard the position of domestic producers who oppose the petition if such producers are related to foreign producers, as defined in section 771(4)(B)(ii), unless such domestic producers demonstrate that their interests as domestic producers would be adversely affected by the imposition of an antidumping duty order;” and (ii) Commerce “may disregard the position of domestic producers of a domestic like product who are importers of the subject merchandise.” In addition, 19 CFR 351.203(e)(4) states that the position of a domestic producer that opposes the petition: (i) will be disregarded if such producer is related to a foreign producer or to a foreign exporter under section 771(4)(B)(ii) of the Act, unless such domestic producer demonstrates to the Secretary's satisfaction that its interests as a domestic producer would be adversely affected by the imposition of an antidumping order; and (ii) may be disregarded if the producer is an importer of the subject merchandise or is related to such an importer under section 771(4)(B)(ii) of the Act.

We received opposition to the Petition from producer(s) that are related to foreign producers of subject merchandise and/or who imported subject merchandise from the subject country. We have analyzed the information provided in the polling questionnaire responses and information provided in other submissions to Commerce. Based on our analysis, we disregarded opposition to the Petition, pursuant to section 732(c)(4)(B) of the Act. When such opposition is disregarded, the industry support requirements of section 732(c)(4)(A) of the Act are satisfied.²⁵

²⁵ See Attachment II of the Thailand AD Initiation Checklist.

Accordingly, Commerce determines that the industry support requirements of section 732(c)(4)(A) of the Act have been met and that the Petition was filed on behalf of the domestic industry within the meaning of section 732(b)(1) of the Act.²⁶

²⁶ Id.

Allegations and Evidence of Material Injury and Causation

The petitioner alleges that the U.S. industry producing the domestic like product is being materially injured, or is threatened with material injury, by reason of the imports of the subject merchandise sold at LTFV. In addition, the petitioner alleges that subject imports exceed the negligibility threshold provided for under section 771(24)(A) of the Act.²⁷

²⁷ See Petition at Volume I (pages 42-44 and Exhibit I-30).

The petitioner contends that the industry's injured condition is illustrated by the significant and increasing volume of subject imports; decline in market share; underselling and price depression and/or suppression; declines in the domestic industry's production, capacity utilization, shipments, and sales volumes; negative impact on investment, inventories, and financial performance; and lost sales and revenues.²⁸ We assessed the allegations and supporting evidence regarding material injury, threat of material injury, causation, as well as negligibility, and we have determined that these allegations are properly supported by adequate evidence, and meet the statutory requirements for initiation.²⁹

²⁸ Id. at Volume I (pages 1-2 and 41-61 and Exhibits I-30 through I-45); see also Supplement at 12-20 and Exhibits SUPP-13 through SUPP-17.

²⁹ See Thailand AD Initiation Checklist at Attachment III, Analysis of Allegations and Evidence of Material Injury and Causation for the Antidumping Duty Petition Covering Large Top Mount Combination Refrigerator-Freezers from Thailand.

Allegation of Sales at LTFV

The following is a description of the allegation of sales at LTFV upon which Commerce based its decision to initiate the LTFV investigation of imports of refrigerators from Thailand. The sources of data for the deductions and adjustments relating to U.S. price and normal value (NV) are discussed in greater detail in the Thailand AD Initiation Checklist.

U.S. Price

The petitioner based export price (EP) on pricing information for sales, or offers for sale, of refrigerators produced in and exported from Thailand during the POI.³⁰ The petitioner made certain adjustments to U.S. price to calculate a net ex-factory U.S. price, where applicable.³¹

³⁰ See Thailand AD Initiation Checklist.

³¹ Id.

Normal Value ³²

³² In accordance with section 773(b)(2) of the Act, for this investigation, Commerce will request information necessary to calculate the constructed value (CV) and COP to determine whether there are reasonable grounds to believe or suspect that sales of the foreign like product have been made at prices that represent less than the COP of the product.

The petitioner based NV on pricing information it obtained from an online retailer for refrigerators produced in and sold, or offered for sale, in Thailand during the POI.³³ The petitioner provided information indicating that the prices for refrigerators sold or offered for sale in Thailand were below the COP; therefore, the petitioner calculated NV based on CV.³⁴ For further discussion of CV, see the section “Constructed Value,” below.

³³ See Thailand AD Initiation Checklist.

³⁴ Id.

Constructed Value

As noted above, the petitioner provided information indicating that the prices for refrigerators sold or offered for sale in Thailand were below COP. Therefore, the petitioner based NV on CV.³⁵ Pursuant to section 773(e) of the Act, the petitioner calculated CV as the sum of the cost of manufacturing (COM), selling, general, and administrative (SG&A) expenses, financial expenses, and profit.

³⁵ Id.

In calculating the COM, the petitioner relied on its own production experience and input consumption rates, valued using publicly available information applicable to Thailand.³⁶ In calculating SG&A expenses, financial expenses, and profit ratios, the petitioner relied on the fiscal year 2023 financial statements of a producer of identical merchandise in Thailand.³⁷

³⁶ Id.

³⁷ Id.

Fair Value Comparisons

Based on the data provided by the petitioner, there is reason to believe that imports of refrigerators from Thailand are being, or are likely to be, sold in the United States at LTFV. Based on comparisons of EP to NV, in accordance with sections 772 and 773 of the Act, the estimated dumping margin for refrigerators from Thailand is 165.47 percent.³⁸

³⁸ Id.

Initiation of LTFV Investigation

Based upon the examination of the Petition and supplements thereto, we find that it meets the requirements of section 732 of the Act. Therefore, we are initiating an LTFV investigation to determine whether imports of refrigerators from Thailand are being, or are likely to be, sold in the United States at LTFV. In accordance with section 733(b)(1)(A) of the Act and 19 CFR 351.205(b)(1), unless postponed, we will make our preliminary determination no later than 140 days after the date of this initiation.

Respondent Selection

In the Petition, the petitioner identified 13 companies in Thailand as producers/exporters of refrigerators.³⁹ In the event Commerce determines that the number of companies is large, and it cannot individually examine each company based upon Commerce's resources, where appropriate, Commerce intends to select mandatory respondents based on quantity and value (Q&V) questionnaires issued to potential respondents. Following standard practice in AD investigations involving market economy countries, Commerce would normally select respondents based on U.S. Customs and Border Protection (CBP) entry data for imports under the appropriate Harmonized Tariff Schedule of the United States (HTSUS) subheadings listed in the “Scope of the Investigations” in the Appendix. However, for this investigation, the main HTSUS subheading under which the subject merchandise would enter is a basket category under which non-subject merchandise may also enter. Therefore, instead of relying on CBP entry data in selecting respondents, we intend to issue Q&V questionnaires to each potential respondent for which the petitioner has provided a complete address.

³⁹ See Petition at Volume I (Exhibit I-20).

Commerce will also post the Q&V questionnaires along with filing instructions on Commerce's website at https://www.trade.gov/ec-adcvd-case-announcements. Exporters/producers of refrigerators from Thailand that do not receive Q&V questionnaires may still submit a response to the Q&V questionnaire and can obtain a copy of the Q&V questionnaire from Commerce's website. Responses to the Q&V questionnaire must be submitted by the relevant Thai producers/exporters no later than 5:00 p.m. on July 23, 2024, which is two weeks from the signature date of this notice. An electronically filed document must be received successfully, in its entirety, by ACCESS no later than 5:00 p.m. ET on the deadline noted above. Commerce intends to finalize its decision regarding respondent selection within 20 days of publication of this notice.

Interested parties must submit applications for disclosure under an administrative protective order (APO) in accordance with 19 CFR 351.305(b). As stated above, instructions for filing such applications may be found on Commerce's website at https://www.trade.gov/administrative-protective-orders.

Distribution of Copies of the Petition

In accordance with section 732(b)(3)(A) of the Act and 19 CFR 351.202(f), a copy of the public version of the Petition has been provided to the Government of Thailand via ACCESS. To the extent practicable, we will attempt to provide a copy of the public version of the Petition to each exporter named in the Petition, as provided under 19 CFR 351.203(c)(2).

ITC Notification

Commerce will notify the ITC of our initiation, as required by section 732(d) of the Act.

Preliminary Determination by the ITC

The ITC will preliminarily determine, within 45 days after the date on which the Petition was filed, whether there is a reasonable indication that imports of refrigerators from Thailand are materially injuring, or threatening material injury to, a U.S. industry.⁴⁰ A negative ITC determination will result in the investigation being terminated.⁴¹ Otherwise, this LTFV investigation will proceed according to statutory and regulatory time limits.

⁴⁰ See section 733(a) of the Act.

⁴¹ Id.

Submission of Factual Information

Factual information is defined in 19 CFR 351.102(b)(21) as: (i) evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ⁴² and, if the information is submitted to rebut, clarify, or correct factual information already on the record, to provide an explanation identifying the information already on the record that the factual information seeks to rebut, clarify, or correct.⁴³ Time limits for the submission of factual information are addressed in 19 CFR 351.301, which provides specific time limits based on the type of factual information being submitted. Interested parties should review the regulations prior to submitting factual information in this investigation.

⁴² See 19 CFR 351.301(b).

⁴³ See 19 CFR 351.301(b)(2).

Particular Market Situation Allegation

Section 773(e) of the Act addresses the concept of particular market situation (PMS) for purposes of CV, stating that “if a particular market situation exists such that the cost of materials and fabrication or other processing of any kind does not accurately reflect the cost of production in the ordinary course of trade, the administering authority may use another calculation methodology under this subtitle or any other calculation methodology.” When an interested party submits a PMS allegation pursuant to section 773(e) of the Act (i.e., a cost-based PMS allegation), the submission must be filed in accordance with the requirements of 19 CFR 351.416(b) and Commerce will respond to such a submission consistent with 19 CFR 351.301(c)(2)(v). If Commerce finds that a cost-based PMS exists under section 773(e) of the Act, then it will modify its dumping calculations appropriately.

Neither section 773(e) of the Act, nor 19 CFR 351.301(c)(2)(v), sets a deadline for the submission of cost-based PMS allegations and supporting factual information. However, in order to administer section 773(e) of the Act, Commerce must receive PMS allegations and supporting factual information with enough time to consider the submission. Thus, should an interested party wish to submit a cost-based PMS allegation and supporting new factual information pursuant to section 773(e) of the Act, it must do so no later than 20 days after submission of a respondent's initial section D questionnaire response.

We note that a PMS allegation filed pursuant to sections 773(a)(1)(B)(ii)(III) or 773(a)(1)(C)(iii) of the Act (i.e., a sales-based PMS allegation) must be filed within 10 days of submission of a respondent's initial section B questionnaire response, in accordance with 19 CFR 351.301(c)(2)(i) and 19 CFR 351.404(c)(2).

Extensions of Time Limits

Parties may request an extension of time limits before the expiration of a time limit established under 19 CFR 351.301, or as otherwise specified by Commerce. In general, an extension request will be considered untimely if it is filed after the expiration of the time limit established under 19 CFR 351.301, or as otherwise specified by Commerce.⁴⁴ For submissions that are due from multiple parties simultaneously, an extension request will be considered untimely if it is filed after 10:00 a.m. ET on the due date. Under certain circumstances, Commerce may elect to specify a different time limit by which extension requests will be considered untimely for submissions which are due from multiple parties simultaneously. In such a case, we will inform parties in a letter or memorandum of the deadline (including a specified time) by which extension requests must be filed to be considered timely. An extension request must be made in a separate, standalone submission; under limited circumstances we will grant untimely filed requests for the extension of time limits, where we determine, based on 19 CFR 351.302, that extraordinary circumstances exist. Parties should review Commerce's regulations concerning the extension of time limits and the Time Limits Final Rule prior to submitting factual information in this investigation.⁴⁵

⁴⁴ See 19 CFR 351.301; see also Extension of Time Limits; Final Rule, 78 FR 57790 (September 20, 2013) (Time Limits Final Rule), available at https://www.gpo.gov/fdsys/pkg/FR-2013-09-20/html/2013-22853.htm.

⁴⁵ See 19 CFR 351.302; see also, e.g., Time Limits Final Rule.

Certification Requirements

Any party submitting factual information in an AD proceeding must certify to the accuracy and completeness of that information.⁴⁶ Parties must use the certification formats provided in 19 CFR 351.303(g).⁴⁷ Commerce intends to reject factual submissions if the submitting party does not comply with the applicable certification requirements.

⁴⁶ See section 782(b) of the Act.

⁴⁷ See Certification of Factual Information to Import Administration During Antidumping and Countervailing Duty Proceedings, 78 FR 42678 (July 17, 2013) (Final Rule). Additional information regarding the Final Rule is available at https://access.trade.gov/Resources/filing/index.html.

Notification to Interested Parties

Interested parties must submit applications for disclosure under APO in accordance with 19 CFR 351.305. Parties wishing to participate in this investigation should ensure that they meet the requirements of 19 CFR 351.103(d) (e.g., by filing the required letter of appearance). Note that Commerce has amended certain of its requirements pertaining to the service of documents in 19 CFR 351.303(f).⁴⁸

⁴⁸ See Administrative Protective Order, Service, and Other Procedures in Antidumping and Countervailing Duty Proceedings, 88 FR 67069 (September 29, 2023).

This notice is issued and published pursuant to sections 732(c)(2) and 777(i) of the Act, and 19 CFR 351.203(c).

Dated: July 9, 2024.
Abdelali Elouaradia,
Deputy Assistant Secretary for Enforcement and Compliance.

Appendix

Scope of the Investigation

The products covered by this investigation are large top mount combination refrigerator-freezers with a refrigerated volume of at least 15.6 cubic feet or 442 liters. For the purposes of this investigation, the term “large top mount combination refrigerator-freezers” consists of freestanding or built-in cabinets that have an integral source of refrigeration using compression technology, with all of the following characteristics:

• The cabinet contains at least two interior storage compartments accessible through two separate external doors;

• The lower-most interior storage compartment(s) that is accessible through an external door is a fresh food or convertible compartment, but is not a freezer compartment, however, the existence of an interior sub-compartment for ice-making in the lower-most storage compartment does not render the lower-most storage compartment a freezer compartment; and

• There is a freezer or convertible compartment that is mounted above the lower-most interior storage compartment(s).

For the purposes of the investigation, a fresh food compartment is capable of storing food at temperatures above 32 degrees F (0 degrees C), a freezer compartment is capable of storing food at temperatures at or below 32 degrees F (0 degrees C), and a convertible compartment is capable of operating as either a fresh food compartment or a freezer compartment, as defined in this paragraph.

The products subject to this investigation are currently classifiable under subheading 8418.10.0075 of the Harmonized Tariff Schedule of the United States (HTSUS). Products subject to this investigation may also enter under HTSUS subheadings 8418.21.0090, 8418.40.0000, and 8418.69.0180. The HTSUS subheadings are provided for convenience and customs purposes, but the written description of the merchandise subject to this scope is dispositive.

[FR Doc. 2024-15601 Filed 7-15-24; 8:45 am]

BILLING CODE 3510-DS-P